DEPARTMENT OF STATE

[Public Notice 8998]

Shipping Coordinating Committee; Notice of Committee Meeting

The Shipping Coordinating Committee (SHC) will conduct an open meeting at 9:00 a.m. on Wednesday, February 4, 2015, in the Alexander Hamilton Room on the 9th floor of the Ballston Common Plaza, 4200 Wilson Blvd., Arlington, VA 20598-7200. The USCG Offices in the Ballston Commons Plaza are located above the Ballston Common Mall. The primary purpose of the meeting is to prepare for the second Session of the International Maritime Organization's (IMO) Sub-Committee on Ship Design and Construction to be held at the IMO Headquarters, United Kingdom, February 16-20, 2015.

The agenda items to be considered include:

—Amendments to SOLAS chapter II-1 subdivision and damage stability regulations

—Guidelines on safe return to port for passenger ships

—Second-generation intact stability criteria

—Amendments to the criterion for maximum angle of heel in turns of the 2008 IS Code

—Amendments to part B of the 2008 IS Code on towing, lifting and anchor handling operations

—Guidelines addressing the carriage of more than 12 industrial personnel on board vessels engaged on international voyages

—Classification of offshore industry vessels and a review of the need for a non-mandatory code for offshore construction support vessels

—Amendments to SOLAS regulation II-1/1 and development of associated Guidelines to ensure the adequacy of testing arrangements for watertight compartments

—Provisions to ensure the integrity and uniform implementation of the 1969 TM Convention

—Guidelines for use of Fibre Reinforced Plastic (FRP) within ship structures

—Amendments to SOLAS and FSS Code to make evacuation analysis mandatory for new passenger ships and review of the Recommendation on evacuation analysis for new and existing passenger ships

—Interpretation of SOLAS regulation II-2/13.6 on means of escape from ro-ro cargo spaces

—Review of conditions under which passenger ship watertight doors may be opened during navigation and development of amendments to SOLAS regulation II-1/22 and MSC.1/Circ.1380 (5.1.1.5)

—Amendments to SOLAS chapter II-1 and associated guidelines on damage control drills for passenger ships

—Guidelines for wing-in-ground craft

—Review of general cargo ship safety

—Amendments to the 2011 ESP Code

—Unified interpretation to provisions of IMO safety, security, and environment-related Conventions

Members of the public may attend this meeting up to the seating capacity of the room. To facilitate the building security process, and to request reasonable accommodation, those who plan to attend should contact the meeting coordinator, LT Stephanie Waller, by email at Stephanie.e.waller@uscg.mil, by phone at (202) 372-1374, or by fax at (202) 372-1925, not later than January 28, 2015, 7 days prior to the meeting. A call-in number option will be available upon RSVP. Requests made after January 28, 2015, might not be able to be accommodated.

Please note that due to security considerations, two valid, government issued photo identifications must be presented to gain entrance to USCG Offices. This location is accessible by taxi, privately owned conveyance, and public transportation (located near the Ballston Metro Station). Additional information regarding this and other IMO SHC public meetings may be found at: www.uscg.mil/imo.

Dated: February 5, 2014.
Marc Zlomek,
Executive Secretary, Shipping Coordinating Committee, Department of State.

Editorial Note: This document was received for publication by the Office of the Federal Register on January 7, 2015.

[FR Doc. 2015-00279 Filed 1-12-15; 8:45 am]

BILLING CODE 4710-09-P